DEPARTMENT OF COMMERCE

National Oceanic and Atmospheric Administration

[RTID 0648-XA141]

New England Fishery Management Council; Public Hearings

AGENCY: National Marine Fisheries Service (NMFS), National Oceanic and Atmospheric Administration (NOAA), Commerce.

ACTION: Notice of public hearings via webinar.

SUMMARY: The New England Fishery Management Council is convening public hearings of Draft Amendment 23 to Northeast Multispecies Fishery via webinar to consider actions affecting New England fisheries in the exclusive economic zone (EEZ). Recommendations from this group will be brought to the full Council for formal consideration and action, if appropriate.

DATES: These webinars will be held on Tuesday, May 12, 2020, from 4 p.m. to 6 p.m. and Thursday, May 21, 2020, from 4 p.m. to 6 p.m.

ADDRESSES: All meeting participants and interested parties can register to join the webinar for the May 12 webinar: https://attendee.gotowebinar.com/register/8772759592748925200; May 21 webinar: https://attendee.gotowebinar.com/register/7652592539533592848.

Meeting addresses: The meeting will be held via webinar.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Public comments: Mail to Thomas A. Nies, Executive Director, New England Fishery Management Council, 50 Water Street, Mill #2, Newburyport, MA 01950. Mark the outside of the envelope “DEIS for Amendment 23 to the Northeast Multispecies FMP”. Comments may also be sent via fax to (978) 465-3116 or submitted via email to comments@nefmc.org with “DEIS for Amendment 23 to the Northeast Multispecies FMP” in the subject line.

Agenda

Scheduling of hearings is ongoing due to the COVID-19 pandemic. Additional hearings will be announced in a separate notice. Council staff will brief the public on Draft Amendment 23 before receiving comments on the amendment. The hearing will begin promptly at the time indicated above. If all attendees who wish to do so have provided their comments prior to the end time indicated, the hearing may conclude early. To the extent possible, the Council may extend hearings beyond the end time indicated above to accommodate all attendees who wish to speak.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

(Authority: 16 U.S.C. 1801 et seq.)

Dated: April 23, 2020.
Tracey L. Thompson,
Acting Deputy Director, Office of Sustainable Fisheries, National Marine Fisheries Service.

[FR Doc. 2020-08978 Filed 4-27-20; 8:45 am]

BILLING CODE 3510-22-P